CORPORATION FOR NATIONAL AND COMMUNITY SERVICE

Renewal of a Currently Approved Information Collection

AGENCY: Corporation for National and Community Service.

ACTION: Notice.

SUMMARY: The Corporation for National and Community Service (hereinafter the “Corporation”), has submitted the following public information collection request (ICR) to the Office of Management and Budget (OMB) for review and approval in accordance with the Paperwork Reduction Act of 1995 (Pub. L. 104-13), (44 U.S.C. Chapter 35). A copy of the ICR, with applicable supporting documentation, may be obtained by calling the Corporation for National and Community Service, Bruce Kellogg, 202-606-6954. Individuals who use a telecommunications device for the deaf (TTY-TDD) may call (202) 565-2799 between 8:30 a.m. and 5 p.m. Eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

Comments: A 60-day public comment Notice was published in the Federal Register on August 10, 2007. The comment period for this notice has elapsed and no comments were received.

SUPPLEMENTARY INFORMATION: Description: The Corporation is seeking approval of the Voucher and Payment Request Form which in paper or electronic version is used by AmeriCorps members to request a payment from their education award account, by schools and lenders to verify eligibility for the payments, and by both parties to verify certain legal requirements.

The OMB is particularly interested in comments which:

Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Type of Review: Renewal.

Agency: Corporation for National and Community Service.

Title: Voucher and Payment Request Form.

OMB Number: 3045-0014.

Frequency: Annual.

Affected Public: Individuals who have completed a term of national service who wish to access their education award accounts.

Number of Respondents: 45,000 responses annually, using the paper form.

Estimated Time Per Respondent: Five minutes (one half-minute for the AmeriCorps member's section and 4½ minutes for the school or lender).

Total Burden Hours: 3,750 hours.

Total Burden Cost (capital/startup): None.

Total Annual Cost (operating/maintaining systems or purchasing services): None.

Dated: October 10, 2007.
Robert Loring,
Director, Accounting and Financial Management Systems.

[FR Doc. E7-20425 Filed 10-16-07; 8:45 am]

BILLING CODE 6050-$$-P